DEPARTMENT OF THE INTERIOR

National Park Service

General Management Plan/Wilderness Study/Off-Road Vehicle Management Plan, Draft Environmental Impact Statement, Big Cypress National Preserve Addition, Florida

AGENCY: National Park Service, Department of the Interior.

ACTION: Notice of availability of the draft Environmental Impact Statement for the General Management Plan/Wilderness Study/Off-Road Vehicle Management Plan (DEIS/GMP/WS/ORV Plan), Big Cypress National Preserve (Preserve) Addition.

SUMMARY: Pursuant to 42 U.S.C. 4332(2)(C) of the National Environmental Policy Act of 1969 and National Park Service (NPS) policy in Director's Order Number 2 (Park Planning) and Director's Order Number 12 (Conservation Planning, Environmental Impact Analysis, and Decision-making), the NPS announces the availability of a DEIS/GMP/WS/ORV Plan for the Big Cypress National Preserve Addition, Florida.

The 1991 GMP for the original Preserve contains no guidance for the approximately 147,000 acres added to the Preserve in 1988 by Public Law 100-301 (the Addition). A GMP is needed to clearly define resource conditions and visitor experiences to be achieved in the Addition.

DATES: There will be a 60-day comment period beginning with the Environmental Protection Agency's publication of its Notice of Availability in the Federal Register. Public meetings will be held during the review period. The date, time, and location of public meetings will be announced through the NPS Planning, Environment, and Public Comment (PEPC) Web site http://parkplanning.nps.gov and in a mailed announcement to be released in the summer of 2009.

ADDRESSES: The document will be available for public review and comment online at http://parkplanning.nps.gov. A limited number of CDs and hard copies will be made available at Preserve headquarters. You may also request a hard copy or CD by contacting Big Cypress National Preserve, 33100 Tamiami Trail East, Ochopee, Florida 34141-1000; telephone 239-695-1103.

SUPPLEMENTARY INFORMATION: Public scoping was initiated in the summer of 2001. Public meetings and six newsletters were used to keep the public informed and involved throughout the planning process for the Addition. The resulting document provides a framework for management, use, and development options for the Addition by the NPS for the next 15 to 20 years. It describes four management alternatives for consideration, including a no-action alternative that continues current management policies, and the NPS's preferred alternative. The three action alternatives present a range of ORV opportunities, proposed wilderness, and visitor facilities. The document analyzes the environmental impacts of the alternatives.

The four alternatives (with names as they appear in the document) are as follows:

Alternative A: No-Action Alternative—the continuation of current management practices and trends. The enabling legislation would be the long-term document to guide management and development of the Preserve.

Alternative B: The general theme is to enable visitor participation in a wide variety of challenging outdoor recreational experiences. This alternative would provide access to up to 140 miles of sustainable primary ORV trails, while proposing a relatively small amount of wilderness. Secondary ORV trails, as defined in the plan, could be designated in any of the backcountry recreation areas, approximately 94,817 acres or 65 percent of the Addition.

Preferred Alternative: The general theme is to provide a diversity of frontcountry and backcountry recreational opportunities, enhance day use opportunities along road corridors, and preserve opportunities for self-reliant recreation. This alternative would provide access to up to 140 miles of sustainable primary ORV trails, while proposing a modest amount of wilderness. Secondary ORV trails, as defined in the plan, could be designated only in the ORV trail corridors and other backcountry recreation areas, approximately 52,431 acres or 36 percent of the Addition.

Alternative F: The general theme is to emphasize resource preservation, restoration, and research while providing recreational opportunities with limited facilities and services. This alternative would provide no ORV trails. It would propose for wilderness designation all lands found eligible for designation in the Wilderness Eligibility Assessment.

If you wish to comment on the DEIS/GMP/WS/ORV Plan, you may submit your comments by any one of several methods. The preferred method for submitting comments is via the Internet at http://parkplanning.nps.gov. If you do not receive a confirmation from the system that we have received your internet message, please contact us directly at the address above. You may also mail comments to the Preserve at the address shown above. Finally, you may present your comments in person at the public meetings to be held during the public review period or at the address listed above.

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials or organizations or businesses, available for public inspection in their entirety.

Authority: The authority for publishing this notice is 40 CFR § 1506.6.

FOR FURTHER INFORMATION CONTACT: Big Cypress National Preserve at the address and telephone number shown above.

The responsible official for this Draft EIS is the Regional Director, Southeast Region, NPS, 100 Alabama Street, SW., 1924 Building, Atlanta, Georgia 30303.

Dated: June 30, 2009.
David Vela,
Regional Director, Southeast Region, National Park Service.

[FR Doc. E9-16661 Filed 7-13-09; 8:45 am]

BILLING CODE 4310-70-P